DEPARTMENT OF HEALTH AND HUMAN SERVICES

Food and Drug Administration

Endocrinologic and Metabolic Drugs Advisory Committee; Amendment of Notice

AGENCY: Food and Drug Administration, HHS.

ACTION: Notice.

The Food and Drug Administration (FDA) is announcing an amendment to the notice of the meeting of the Endocrinologic and Metabolic Drugs Advisory Committee. This meeting was announced in the Federal Register of May 6, 2003 (68 FR 24003). The amendment is being made to reflect a change in the Agenda portion of the document. There are no other changes.

FOR FURTHER INFORMATION CONTACT: Dornette Spell-LeSane, Center for Drug Evaluation and Research (HFD-21), Food and Drug Administration, 5600 Fishers Lane (for express delivery, 5630 Fishers Lane, rm. 1093), Rockville, MD 20857, 301-827-7001, or FDA Advisory Committee Information Line, 1-800-741-8138 (301-443-0572 in the Washington, DC area), code 12536. Please call the Information Line for up-to-date information on this meeting.

SUPPLEMENTARY INFORMATION: In the Federal Register of May 6, 2003 (68 FR 24003), FDA announced that a meeting of the Endocrinologic and Metabolic Drugs Advisory Committee would be held on June 10, 2003. On page 24003, in the third column, the Agenda portion of the meeting is amended to read as follows:

Agenda: The committee will discuss supplemental new drug application (sNDA) 19-604/S-033 HUMATROPE (somatropin recombinant deoxyribonucleic acid (rDNA) origin) for injection), Eli Lilly and Co., for the proposed indication of treatment of nongrowth hormone deficiency short stature.

The notice of this meeting is given under the Federal Advisory Committee Act (5 U.S.C. app. 2) and 21 CFR part 14, relating to advisory committees.

Dated: May 13, 2003.
Peter J. Pitts,
Associate Commissioner for External Relations.

[FR Doc. 03-12544 Filed 5-19-03; 8:45 am]

BILLING CODE 4160-01-S